DEPARTMENT OF HEALTH AND HUMAN SERVICES

Indian Health Service

Office of Direct Service and Contracting Tribes; National Indian Health Outreach and Education II Program; Correction

AGENCY: Indian Health Service, HHS.

ACTION: Notice; correction.

SUMMARY: The Indian Health Service published a document in the Federal Register on August 6, 2014 for the FY 2014 National Indian Health Outreach and Education II—Methamphetamine Suicide Prevention Intervention/Domestic Violence Prevention Initiative Program Announcement and Human Immunodeficiency Virus/Acquired Immune Deficiency Syndrome. The notice contained incorrect dates.

FOR FURTHER INFORMATION CONTACT: Mr. Chris Buchanan, Director, Office of Direct Service and Contracting Tribes, Indian Health Service, 801 Thompson Avenue, Suite 220, Rockville, MD 20852, Telephone (301) 443-1104. (This is not a toll-free number.)

SUPPLEMENTARY INFORMATION:

Correction

In the Federal Register of August 6, 2014, in FR Doc. 2014-18531, on page 45817, in the first column, under the heading Key Dates, the correct dates should read as follows:

Application Deadline Date: September 6, 2014.

Review Date: September 8, 2014.

Earliest Anticipated Start Date: September 15, 2014.

Proof of Non-Profit Status Due Date: September 6, 2014.

Dated: August 16, 2014.
Yvette Roubideaux,
Acting Director, Indian Health Service.

[FR Doc. 2014-20108 Filed 8-22-14; 8:45 am]

BILLING CODE 4165-16-P